DEPARTMENT OF THE INTERIOR

Bureau of Land Management

[WY-050-1430-EU; WYW-151993]

Notice of Realty Action; Proposed Direct Sale of Public Land Parcel in Fremont County, WY

AGENCY: Bureau of Land Management, Interior.

ACTION: Notice of realty action.

SUMMARY: The Bureau of Land Management (BLM) has determined that the following described public land is suitable for direct sale to the State of Wyoming, State Parks and Cultural Resources Division pursuant to sections 203 and 209 of the Federal Land Policy and Management Act (FLPMA) of 1976, (43 U.S.C. 1713, 1719), and the Federal Land Transaction Facilitation Act of 2000, Pub. L. No. 106-248, July 25, 2000. The land will not be offered for sale, at less than fair market value, and will not be sold until at least 60 days after the date of this notice.

Sixth Principal Meridian

T. 29 N., R. 100 W.,

Sec. 20, lot 16.

The above lands aggregate 10.27 acres.

FOR FURTHER INFORMATION CONTACT: Jack Kelly, Field Manager, Lander Field Office, Bureau of Land Management, 1335 Main Street, P.O. Box 589, Lander, Wyoming 82520, or contact Bill Bartlett at (307) 332-8401, or by e-ail at Bill_Bartlett@blm.gov.

SUPPLEMENTARY INFORMATION: The State of Wyoming, State Parks and Cultural Resources wants to purchase the 10 acres of public land which includes an abandoned railroad fill across Willow Creek. They intend to use the land and railroad fill in a flood protection plan to protect their investment in the restored historic structures in the South Pass City State Historic Site.

The publication of this Notice of Realty Action in the Federal Register shall segregate the above public lands from appropriation under the public land laws, including the mining laws. Any subsequent application shall not be accepted, shall not be considered as filed and shall be returned to the applicant. The segregative effect of this Notice will terminate upon issuance of a conveyance document, 270 days from the date of publication of this Notice, or when a cancellation Notice is published, whichever occurs first.

This sale is consistent with Bureau of Land Management policies and the Lander Resource Management Plan (RMP). There will be no reduction of grazing privileges because the land to be sold consists primarily of a railroad fill and culvert on Willow Creek. In accordance with section 7 of the Taylor Grazing Act, 43 U.S.C. 315f, and Executive Order No. 6910, the described lands are hereby classified for disposal by sale. The conveyance, when completed, will be subject to the following terms, conditions and reservations:

1. All valid existing rights documented on the official public land records at the time of patent issuance.

2. All minerals shall be reserved to the United States, together with the right to prospect for, mine, and remove the minerals.

3. A right-of-way for ditches and canals constructed by the authority of the United States.

Classification Comments: Interested parties may submit comments regarding the classification of the land as suitable for disposal through sale.

Application Comments: For a period of 45 days from the date of this notice, interested parties may submit comments to the Field Manager, BLM Lander Field Office, P.O. Box 589, Lander, Wyoming 82520. Any adverse comments will be evaluated by the State Director. In the absence of any adverse comments, the classification will become effective 60 days from the date of publication of this notice in the Federal Register.

Dated: August 2, 2002.
Jack Kelly,
Field Manager.

[FR Doc. 02-23039 Filed 9-10-02; 8:45 am]

BILLING CODE 4310-22-P